DEPARTMENT OF TRANSPORTATION

Federal Motor Carrier Safety Administration

[Docket No. FMCSA-2001-11055]

Motor Carrier Safety Research and Technology: Second Annual Workshop

AGENCY: Federal Motor Carrier Safety Administration (FMCSA), DOT.

ACTION: Notice of public meeting; workshop participation; request for comments.

SUMMARY: This notice invites participation in a workshop addressing issues related to safety and security in Motor Carrier Safety Research and Technology Development Program and requests comment from those unable to attend the workshop. The workshop is being sponsored by FMCSA's Office of Research and Technology. It will be held at the close of the Transportation Research Board's Annual Meeting on January 17, 2002, in Washington, DC. The workshop will promote discussion of the accomplishments of the Office of Research and Technology since the Transportation Research Board's annual meeting of 2001; facilitate the sharing of information regarding specific research and technology projects completed during the 2001 calendar year; and provide a forum for interested parties to discuss their views regarding the planned or proposed projects in the area of research and technology.

DATES: The meeting and workshop will be held on Thursday, January 17, 2002, from 8:30 a.m. to 5:00 p.m. If you would like your comments to be available by the date of the meeting, submit the comments to the DOT Docket Clerk as described below by January 13, 2002. If you are unable to attend the meeting, comments should be submitted to the DOT Docket Clerk before January 31, 2002.

ADDRESSES: The meeting and workshop will be held at the Marriott Wardman Park Hotel, 2660 Woodley Road, NW., Washington, DC 20008. Mail comments to Docket Clerk, U.S. DOT Dockets Management Facility, Room PL-401, 400 7th Street, SW., Washington, DC 20590-0001.

FOR FURTHER INFORMATION CONTACT: Mr. Albert Alvarez, Office of Research and Technology, (202) 358-5684, Federal Motor Carrier Safety Administration, 400 Virginia Avenue, SW., Suite 600, Washington, DC 20590. Office hours are from 8:00 a.m. to 4:30 p.m. e.t., Monday through Friday, except Federal Holidays.

SUPPLEMENTARY INFORMATION:

Electronic Access or Filing

Internet users can submit or review comments online through the Document Management System (DMS) website at: http://dmses.dotgov. Detailed information on the workshop and Program areas is available at www.volpe.dot.gov/outreach/fmcsatrb. Participants can pre-register for the workshop at the Transportation Research Board website: www.trb.org/trb/meeting.

The Federal Motor Carrier Research and Technology Development Program supports FMCSA safety activities and initiatives through the discovery, application, and dissemination of new knowledge (research); and the assessment, development, deployment, and promotion of new devices and systems (technology).

The Workshop Agenda will include:

1. Plenary Session

2. Accomplishment reports on the five program areas

3. Box Lunch

4. Breakout Sessions in the five program areas regarding planned or proposed future projects

5. Wrap-up and Evaluations

Meeting and workshop attendance is open to the public, but is limited in space. For the morning Workshop Plenary Session there is no limit on space. Seating for the afternoon Breakout Sessions will be on a first-come basis. The registration for an entire day includes a lunch fee.

For information on facilities or services for individuals with disabilities, or to request special assistance or meals at the meetings, contact Delores Hilton, Transportation Research Board (202) 334-2960.

Comments from those who attend the meeting and workshop will be transcribed. A copy of the transcript will be placed in the public docket. Feedback from all parties will be used as the basis for a final Workshop Report. The report will also be available to the public at the Volpe website which has information on the workshop.

If you wish to submit written comments or statements concerning the meeting and this notice, submit the information to the public docket listed at the top of this notice.

Issued on: January 7, 2002.
Joseph M. Clapp,
Administrator.

[FR Doc. 02-658 Filed 1-9-02; 8:45 am]

BILLING CODE 4910-EX-P